DEPARTMENT OF COMMERCE

National Oceanic and Atmospheric Administration

[I.D. 111202B]

South Atlantic Fishery Management Council; Public Meetings

AGENCY: National Marine Fisheries Service (NMFS), National Oceanic and Atmospheric Administration (NOAA), Commerce.

ACTION: Notice of public meetings.

SUMMARY: The South Atlantic Fishery Management Council (Council) will hold meetings of its Snapper Grouper Committee, Finance Committee, Highly Migratory Species Committee, Advisory Panel Selection Committee (closed session), Habitat Committee and Dolphin Wahoo Committee. A joint meeting will also be held between the Snapper Grouper Committee and the Snapper Grouper Advisory Panel. A public hearing will be held on the red porgy stock assessment and review. Additional public comment periods will be held to address lobster issues and the final Dolphin Wahoo Fishery Management Plan. There will also be a full Council Session.

DATES: The meetings will be held in December 2002. See SUPPLEMENTARY INFORMATION for specific dates and times.

ADDRESSES: The meetings will be held at the Sheraton Grand New Bern, 100 Middle Street, New Bern, NC 28560; telephone: (1-800) 326-3745 or (252) 638-8112.

Copies of documents are available from Kim Iverson, Public Information Officer, South Atlantic Fishery Management Council, One Southpark Circle, Suite 306, Charleston, SC 29407-4699.

FOR FURTHER INFORMATION CONTACT: Kim Iverson, Public Information Officer; telephone: 843-571-4366 or toll free at 866/SAFMC-10; fax: 843-769-4520; email: kim.iverson@safmc.net.

SUPPLEMENTARY INFORMATION:

Meeting Dates

1. Joint Snapper Grouper Committee and Advisory Panel Meeting: December 2, 2002, 1:30 p.m.- 5:30 p.m. and continued on December 3, 2002, from 8:30 a.m. until 10 a.m.

The Snapper Grouper Committee will meet jointly with the Advisory Panel (AP) to receive updates on red porgy management including a presentation on the SAW/SARC (Stock Assessment Workshop/Stock Assessment Review Committee) findings and the status of the North Carolina observer work on red porgy bycatch. The Committee and AP will also receive updates on the snapper/grouper electronic logbook study and the economic data collection program using logbooks. Following the presentations, the Committee and AP will receive an overview of draft Amendment 13 to the Snapper Grouper Fishery Management Plan (FMP) and will provide input for the document.

2. Public Hearing for Red Porgy followed immediately by a public scoping meeting on issues affecting the spiny lobster fishery: December 2, 2002, 6 p.m.

3. Snapper Grouper Committee Meeting: December 3, 2002, 10 a.m. until 6 p.m. and continued December 4, 2002, from 8:30 a.m. until 3 p.m.

The Snapper Grouper Committee will meet to receive an update on the SEDAR (Southeastern Data, Assessment and Review) process as it currently relates to the status of vermilion snapper and black sea bass and also hear from NOAA Fisherie's Southeast Regional Office regarding the status of their capacity work for the snapper grouper and black sea bass fisheries. The Snapper Grouper Committee will also review draft Amendment 13 and develop recommendations for the Council.

4. Finance Committee Meeting: December 4, 2002, 3 p.m. until 4 p.m.

The Finance Committee will meet to review and approve the Calendar Year (CY) 2003 budget.

5. Highly Migratory Committee Meeting: December 4, 2002, 4 p.m. until 5 p.m.

The Highly Migratory Species Committee will meet to discuss bluefin tuna allocation issues and hear a report on the fall ICCAT (International Commission for the Conservation of Atlantic Tunas) Advisory Committee meeting and a summary of the ICCAT meeting.

6. Habitat Committee Meeting: December 5, 2002, 8:30 a.m. until 10:30 a.m.

The Habitat Committee will meet to review Advisory Panel recommendations. The Committee will also address revisions of its Policy Statement.

7. Advisory Panel Selection Committee Meeting (CLOSED): December 5, 2002, 10:30 a.m. until 12 noon.

The Advisory Panel Selection Committee will meet in to review current applications for advisory panel positions and develop recommendations.

8. Dolphin Wahoo Committee Meeting: December 5, 2002, 1:30 p.m. until 3:30 p.m.

The Dolphin Wahoo Committee will meet to develop recommendations on submission of the Dolphin Wahoo FMP for formal Secretarial review.

9. Council Session: December 5, 2002, 4 p.m. until 6 p.m.

From 4 p.m. 4:15 p.m., the Council will have a Call to Order, introductions and roll call, adoption of the agenda, and approval of the September 2002 meeting minutes.

From 4:15 p.m. 5 p.m., the Council will hear recommendations from the Dolphin Wahoo Committee and take action for final approval of the Dolphin Wahoo FMP for submission for formal Secretarial review. Beginning at 4:15 p.m., a public comment period will be held on the final Atlantic Dolphin Wahoo FMP.

From 5 p.m. 6 p.m., the Council will receive a legal briefing on litigation affecting the Council (CLOSED SESSION).

10. Council Session: December 6, 2002, 8:30 a.m. 12 Noon.

From 8:30 a.m. 9 a.m., the Council will hear a report from the Snapper Grouper Committee and take into consideration recommendations regarding draft Amendment 13 to the Snapper Grouper FMP.

From 9 a.m. 9:15 a.m., the Council will receive a report from the Habitat Committee.

From 9:15 a.m. 9:30 a.m., the Council will hear recommendations from the Advisory Panel Selection Committee and appoint new advisory panel members.

From 9:30 a.m. 9:45 a.m., the Council will hear a report from the Highly Migratory Species Committee.

From 9:45 a.m. 10 a.m., The Council will hear a report from the Finance Committee and approve the CY 2003 budget.

From 10 a.m. until 10:15 a.m., the Council will develop recommendations to the Regional Administrator for NOAA Fisheries on Expempted Fisheries Permits for the North Carolina Aquariums and the South Carolina Aquarium.

From 10:15 a.m. until 10:45 a.m., the Council will receive a report on the Marine Fishery Stock Assessment Improvement Plan.

From 10:45 a.m. until 11 a.m., the Council will receive a status report on Amendment 6 to the Shrimp FMP.

From 11 a.m. until 11:30 a.m., the Council will hear NOAA Fisheries status reports on the Golden/Red Crab FMP management unit issue, Shrimp Amendment 5 implementation, the Sargassum FMP, the SEDAR Committee Process and implementation of the ACCSP (Atlantic Coast Cooperative Statistics Program) in the Southeast Region. NOAA Fisheries will also give status reports on landings for Atlantic king mackerel, Gulf king mackerel (eastern zone), Atlantic Spanish mackerel, snowy grouper & golden tilefish, wreckfish, greater amberjack and south Atlantic octocorals.

From 11:30 a.m. 12 noon, the Council will hear agency and liaison reports, discuss other business and upcoming meetings.

Documents regarding these issues are available from the Council office (see ADDRESSES).

Although non-emergency issues not contained in this agenda may come before this Council for discussion, those issues may not be the subjects of formal Council action during this meeting. Council action will be restricted to those issues specifically listed in this notice and any issues arising after publication of this notice that require emergency action under section 305 (c) of the Magnuson-Stevens Act, provided the public has been notified of the Council's intent to take final action to address the emergency.

Special Accommodations

These meetings are physically accessible to people with disabilities. Requests for sign language interpretation or other auxiliary aids should be directed to the Council office (see ADDRESSES) by November 29, 2002.

Dated: November 13, 2002.
Richard W. Surdi,
Acting Director, Office of Sustainable Fisheries, National Marine Fisheries Service.

[FR Doc. 02-29218 Filed 11-15-02; 8:45 am]

BILLING CODE 3510-22-S